DEPARTMENT OF AGRICULTURE

Animal and Plant Health Inspection Service

9 CFR Part 94

[Docket No. APHIS-2013-0061]

RIN 0579-AD96

Restrictions on the Importation of Fresh Pork and Pork Products From a Region in Mexico

AGENCY: Animal and Plant Health Inspection Service, USDA.

ACTION: Proposed rule.

SUMMARY: We are proposing to amend the regulations governing the importation of animals and animal products to define a low-risk classical swine fever region in Mexico from which we would allow the importation of fresh pork and pork products under certain conditions. Under this proposed rule, such pork and pork products would have to be derived from swine raised on farms meeting stringent sanitary and biosecurity requirements. We would also provide safeguards against commingling of the swine and the pork and pork products with animals and products that do not meet our proposed requirements. Establishments that slaughter the swine from which the pork or pork products are derived would have to allow periodic inspection and evaluation of their facilities, records, and operations by the Animal and Plant Health Inspection Service. This proposed rule would relieve some restrictions on the importation of pork and pork products from Mexico while continuing to protect against the introduction of classical swine fever into the United States.

DATES: We will consider all comments that we receive on or before September 29, 2014.

ADDRESSES: You may submit comments by either of the following methods:

• Federal eRulemaking Portal: Go to http://www.regulations.gov/#!docketDetail;D=APHIS-2013-0061.

• Postal Mail/Commercial Delivery: Send your comment to Docket No. APHIS-2013-0061, Regulatory Analysis and Development, PPD, APHIS, Station 3A-03.8, 4700 River Road Unit 118, Riverdale, MD 20737-1238.

Supporting documents and any comments we receive on this docket may be viewed at http://www.regulations.gov/#!docketDetail;D=APHIS-2013-0061 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Chip Wells, Senior Staff Veterinarian, National Import Export Services, VS, APHIS, 4700 River Road Unit 38, Riverdale, MD 20737-1231; (301) 851-3317.

SUPPLEMENTARY INFORMATION:

Background

The Animal and Plant Health Inspection Service (APHIS) of the United States Department of Agriculture (USDA) regulates the importation of animals and animal products into the United States to guard against the introduction of animal diseases not currently present or prevalent in this country. The regulations in 9 CFR part 94 (referred to below as the regulations) prohibit or restrict the importation of specified animals and animal products to prevent the introduction into the United States of various animal diseases, including classical swine fever (CSF), foot-and-mouth disease (FMD), swine vesicular disease (SVD), and rinderpest. These are dangerous and communicable diseases of ruminants and swine.

APHIS currently recognizes nine Mexican States as free of CSF: Baja California, Baja California Sur, Campeche, Chihuahua, Nayarit, Quintana Roo, Sinaloa, Sonora, and Yucatan. Because of the proximity of those nine States to CSF-affected regions and/or other risk factors, however, their pork and pork products may only be imported into the United States under the conditions specified in § 94.32.

In November 2007, the Government of Mexico submitted a request to APHIS seeking recognition of the States of Aguascalientes, Colima, Guanajuato, Jalisco, Michoacán, Querétaro, San Luis Potosí, and Zacatecas as CSF-free in order to allow for the export of fresh pork and pork products originating in those Mexican States to the United States. Collectively, those States are known as the Central Western Region (CWR). Mexico had declared those States free of CSF in July 2006 after conducting a CSF eradication campaign. In September 2008, the Government of Mexico expanded their request to include an APHIS evaluation of the State of Puebla, which Mexico had declared CSF-free in December 2006. In January 2009, after declaring that CSF had been eradicated in Mexico, the Government of Mexico expanded its request again to include all Mexican territory.

In response to these requests, we have prepared a risk assessment that evaluates the risk of the spread of CSF to the U.S. swine population via the importation of pork and pork products from the CWR and the additional States included in Mexico's market access request.¹ APHIS technical teams made two site visits to the CWR, the first in May 2008 and the second in April 2012. In December 2012, APHIS conducted a site visit to evaluate the remaining unrecognized States of Mexico.

¹ The risk assessment is available on the Regulations.gov Web site (see ADDRESSES above) or by contacting the person listed in this document under the heading FOR FURTHER INFORMATION CONTACT.

In our risk assessment, we identified three risk factors that could be associated with the importation into the United States of pork and pork products from the States included in Mexico's market request. The first of these is the serologic evidence, found in some Mexican States as recently as 2012, of exposure in swine to CSF virus. It has not been possible from the available data to determine whether this evidence of exposure results from infection or CSF vaccination. The second risk factor is the lack of uniformity in the quality of epidemiological investigations of CSF suspect cases in Mexico. The third is the existence of common land borders between some Mexican States and neighboring CSF-affected countries, raising concerns about the possibility that CSF could be reintroduced into Mexico from those neighboring countries. The risk assessment document discusses these three risk factors in detail.

Because of the presence of these risk factors, we are unable, at this time, to recognize the Mexican States we evaluated as CSF-free. We did determine, however, that fresh pork and pork products imported from all of those States but one, Chiapas, would present a low risk of introducing CSF into the U.S. swine population, provided that certain conditions designed to mitigate that risk were met. We are therefore proposing to recognize a new APHIS-defined Mexican CSF region that would consist of all Mexican States except the nine States we currently recognize as CSF-free and the State of Chiapas, which we do not recognize as CSF-free. The nine States currently recognized as CSF-free would retain their CSF-free status and could continue to export live swine and pork and pork products to the United States, subject to the conditions in § 94.32. We would not allow pork and pork products to be imported into the United States from Chiapas, however, because we have determined that such imports would present an unacceptably high risk of the spread of CSF to the U.S. swine population. We would also continue to prohibit the importation of live swine from the APHIS-defined Mexican CSF region because imported live swine are associated with higher levels of CSF risk than imported pork and pork products. The conditions under which we would allow pork and pork products to be imported from the proposed APHIS-defined Mexican CSF region would be included in a proposed new § 94.34 and are discussed in detail below.

We would define the APHIS-defined Mexican CSF region as being a single region of Mexico recognized by APHIS as low risk for classical swine fever. The proposed definition, which we would add to § 94.0, would also direct the reader to the APHIS Web site, where the list would be maintained, and to the mailing address to which a member of the public could write to obtain a copy. The proposed definition would further provide that we would add an area to the region after conducting an evaluation of that area in accordance with our regionalization criteria in § 92.2 and determining that the CSF risk profile for the area to be added is equivalent to that of the APHIS-defined CSF region as a whole.

The introductory text of proposed § 94.34 would state that fresh pork or pork products and ship stores, airplane meals, and baggage containing pork or pork products, other than those articles regulated under 9 CFR parts 95 or 96, may not be imported into the United States from the APHIS-defined Mexican CSF region unless the requirements listed in the proposed new section are met, in addition to other applicable requirements of 9 CFR parts 93 and 327, the latter of which contains the USDA's Food Safety and Inspection Service's (FSIS) regulations pertaining to imported products. These requirements are modeled on the existing CSF-related restrictions in § 94.32 and are intended to prevent the introduction of CSF into the United States via the various pathways listed.

Proposed paragraph (a) of § 94.34 would state that pork or pork products destined for export to the United States from the APHIS-defined Mexican CSF region would have to be derived from swine raised on farms where CSF antigen exposure has not been detected. The pork or pork products would also have to be derived from swine herds that are tested annually for CSF antibodies with negative results, using a serological testing protocol that allows differentiation between CSF antibodies and cross-reactions with antibodies to other pestiviruses. Sample size would have to be adequate to detect 5 percent prevalence at a 95 percent confidence level, and samples from the herd could be collected at the slaughterhouse or the farm. Any sick pigs showing clinical signs consistent with CSF would have to be sampled and tested immediately on the farm for CSF antigen. In cases of CSF suspicion, any freshly dead pigs or pigs needing to be euthanized would have to be necropsied on the farm, and complete diagnostics for CSF would have to be performed at an official diagnostic laboratory in Mexico. These proposed requirements are intended to ensure that there are adequate testing, surveillance, and diagnostic measures in place at the farms containing the swine from which the pork and pork products are derived to ensure that those swine have not been infected with or exposed to the CSF virus.

Proposed paragraph (b) of § 94.34 addresses sanitary and biosecurity requirements for the farms that raise the swine from which the pork and pork products are derived. The Administrator would make a determination that the sanitary and biosecurity measures employed by a farm are adequate to prevent the spread of CSF provided that the requirements listed in proposed paragraphs (b)(1) through (b)(9) were met.

Proposed paragraph (b)(1) would state that the swine from which the pork or pork products are derived would have to be contained in a manner determined by the Administrator to be adequate to prevent exposure to other swine, wildlife, or swine products. Examples of acceptable means of containment would include perimeter fencing and gated driveways. This requirement would ensure that the swine would not be exposed to infection with the CSF virus through physical contact with animals or animal products that may be associated with a high level of CSF risk.

Proposed paragraph (b)(2) would state that all vehicles entering the farm or transporting swine to or from it would have to be cleaned and disinfected in a manner determined by the Administrator to be adequate to prevent the spread of CSF. Such cleaning and disinfecting would entail the removal of all visible organic matter, manure, dirt, debris, bedding, soil, and feed, the subsequent drying of all surfaces, and the use, as specified in the manufacturer's instructions, of a disinfecting agent that has been shown to deactivate the CSF virus. Vehicles can potentially transmit swine pathogens onto a farm when manure containing disease agents adheres to tires or the vehicle frame. Swine loaded into a contaminated vehicle for transport are also subject to exposure. The cleaning and disinfection requirements contained in this paragraph would ensure that the swine are protected against such exposure.

Proposed paragraph (b)(3) would state that personnel entering the farm would have to be limited to those necessary for farm operations. In addition, because clothing, boots, and other, similar articles contaminated with the manure of sick animals could be a source of pathogens, farm personnel would have to take measures to ensure that the clothing, boots, and other similar articles worn by the personnel entering the farm and by visitors are not contaminated. The farm would also have to maintain a written visitors log. The visitors log would aid in traceback in the event of a CSF outbreak on the farm.

Proposed paragraph (b)(4) would state that the farm would be required to prohibit farm personnel from owning or working with other swine or working in swine slaughter facilities. This provision would prevent the swine from being exposed to the CSF virus via contact with farm personnel who work in environments that do not meet our biosecurity standards.

Proposed paragraph (b)(5) would state that records of all animal movements into and out of the farm, including those of species other than swine, would have to be maintained on the farm for 3 years. The records would have to include the identification of the animals moved and the origin and destination for each movement. These proposed recordkeeping and record maintenance requirements would ensure that APHIS would be able to access all necessary information to conduct an effective traceback investigation in the event of a CSF outbreak on the farm or elsewhere in the APHIS-defined Mexican CSF region.

Proposed paragraph (b)(6) would prohibit the feeding of swill to swine on the farm, thereby eliminating another possible source of exposure to the CSF virus.

Proposed paragraph (b)(7) would require the farm to maintain a pest control program determined by the Administrator to be adequate to limit the exposure of swine to rodent contamination. Rodents can carry swine disease agents.

Proposed paragraph (b)(8) would address replacement stock, i.e., breeding swine that are brought onto the farm containing the swine from which the pork or pork products are derived. Replacement stock would have to test negative for CSF prior to entering the farm and would have to be obtained only from herds of equivalent sanitary status to the herds from which the pork or pork products are derived. These proposed requirements would prevent swine already on the farm from being exposed to CSF by replacement stock.

Proposed paragraph (b)(9) would require semen donor boars to test negative for CSF prior to being admitted to a semen collection center that supplies semen to the farm. The proposed requirement would prevent the spread of CSF onto the farm through artificial insemination.

Proposed paragraph (b) of § 94.34 does not prescribe a specific, detailed method or protocol for meeting the above-listed requirements. Producers in Mexico could potentially employ any of a number of methods, so long as they lead to the desired outcome, which is to prevent exposure of the U.S. swine population to CSF via imports of pork and pork products from the APHIS-defined low-risk region for CSF. To cite one example, the Biosecurity Guide for Pork Producers, published in the United States by the National Pork Board, includes sanitary and biosecurity standards that we would consider adequate to meet the requirements of paragraph (b). That document can be found on the Web at https://webadmin.pork.org/filelibrary/Biosecurity/final%20biosecurity%20book.pdf. Producers in Mexico may elect to use standards or guidelines other than those set out in that National Pork Board publication, provided that the Administrator determines that those alternatives also are adequate to prevent exposure of the U.S. swine population to CSF.

Proposed paragraph (c) would require the pork or pork products to be derived from swine raised on farms that have not been epidemiologically linked to CSF outbreaks and have not been located in a restricted zone for CSF in the previous 12 months. Restricted zone for classical swine fever is currently defined in § 94.0 as an area, delineated by the relevant competent veterinary authorities of the region in which the area is located, that surrounds and includes the location of an outbreak of CSF in domestic swine or detection of the disease in wild boar, and from which the movement of domestic swine is prohibited. Our proposed requirements in paragraph (c) would ensure that the swine from which the pork and pork products are derived would not be raised on farms where there would be a high risk of CSF exposure due to the presence of the disease on the farm or the proximity of the farm to another that may contain affected swine.

Proposed paragraph (d) would require the pork or pork products derived from swine originating in the CSF low-risk region to have been raised on farms that were inspected within the previous year by Mexico's National Service of Health, Safety and Quality Agrofood and verified to be in compliance with the above conditions described in proposed paragraphs (a), (b), and (c). This requirement would provide APHIS with additional assurance that the testing, sanitary, and biosecurity standards for farms containing the swine from which the pork and pork products are to be derived are in fact being met by those farms.

Proposed paragraph (e) contains additional requirements aimed at ensuring that the swine from which the pork and pork products are derived have not been exposed to CSF through commingling with other swine and that contamination does not occur at the slaughter plant. First, we would require the pork or pork products to be derived from swine that were born, raised, and have lived only in the United States or in a region we recognize as CSF-free or low-risk for CSF. Second, we would also require that such swine be slaughtered in such a region at a federally inspected slaughter plant that is under the direct supervision of a full-time salaried veterinarian of the national government of that region and that is eligible to have its products imported into the United States under the Federal Meat Inspection Act (21 U.S.C. 601 et seq.) and the FSIS regulations in 9 CFR 327.2. Third, the slaughtering establishment would have to allow APHIS to periodically evaluate and inspect its facilities, records, and operations. That requirement would apply to any slaughtering establishment exporting pork or pork products to the United States in accordance with proposed § 94.34, regardless of whether the establishment is located in a CSF-free or low-risk region. U.S. plants that slaughter swine and ship pork to Mexico for further processing before the pork returns to the United States would not be affected by these proposed requirements.

Proposed paragraph (f) would provide additional protection against contamination through commingling by requiring the pork or pork products to be derived from swine that have not been commingled with swine originating from herds in the low-risk region that do not meet the sanitary standards contained in proposed § 94.34.

Proposed paragraphs (g), (h), and (i) provide safeguards against the exposure of the pork and pork products themselves to the CSF virus by means of commingling with contaminated products or affected swine. Proposed paragraph (g) would require that the pork or pork products not have contact with pork or pork products that have been in a region, other than the United States, that is not classified as CSF-free or low-risk for CSF. Proposed paragraph (h) would require the pork or pork products not to have had contact with pork or pork products derived from swine originating from herds in the low-risk region not reared under the sanitary standards contained in proposed § 94.34. Proposed paragraph (i) would prohibit the transiting of the pork or pork products through a region, other than the United States, that we do not recognize as CSF-free or low-risk for CSF unless moved directly through the region to their destination in a sealed means of conveyance with the seal intact upon arrival at the point of destination.

Proposed paragraph (j) would require that processed pork or pork products would have to be processed in a region classified as CSF-free or low-risk for CSF in a federally inspected processing plant that is under the direct supervision of a full-time salaried veterinary official of the national government of that region. As is the case with slaughtering establishments, any processing establishment that processes pork or pork products for export to the United States under proposed § 94.34 would have to allow APHIS to periodically evaluate and inspect its facilities, records, and operations. These requirements would help to prevent the pork and pork products from possible exposure to the CSF virus during processing and would also allow APHIS to verify that the processing facility is meeting our standards.

Proposed paragraph (k) would require the pork or pork products to be accompanied by a certificate issued by a full-time salaried veterinary officer of the Government of Mexico. Upon arrival of the pork or pork products in the United States, the certificate would have to be presented to an authorized inspector at the port of arrival. The certificate would have to identify the exporting region of the pork or pork products as being part of the APHIS-defined Mexican CSF region as listed under § 94.34 at the time the pork or pork products were in the region and would have to state that all applicable provisions of § 94.34 have been met. Requiring this certification from the Government of Mexico would provide us with verification that that the pork and pork products are in fact being exported to the United States in accordance with our proposed requirements.

Miscellaneous

The proposed addition of the APHIS-defined low-risk CSF region in Mexico would necessitate some, mostly minor, changes to §§ 94.9 and 94.10, which contain, respectively, requirements for the importation of pork and pork products and live swine from regions where CSF exists, and § 94.15, which pertains to the movement and handling of certain animal products and materials transiting the United States. In § 94.9, paragraphs (b) and (c), respectively, refer to the APHIS-defined CSF low-risk region in the European Union. We would amend those two paragraphs so that they would refer to the newly defined CSF low-risk region in Mexico, as well as the one in the European Union. We would also amend § 94.10(b) to add a reference to the APHIS-defined CSF low-risk region in Mexico. Current § 94.15(b) contains requirements for the transit through the United States of pork and pork products that originate in the nine Mexican States that we currently recognize as CSF-free but do not meet the requirements for entry contained in § 94.32. Under this rulemaking, the same requirements would apply to pork and pork products that originate in the CSF low-risk region of Mexico and transit the United States. We would, therefore, amend the introductory text of § 94.15(b) and paragraph (b)(2) by removing the lists of the nine CSF-free States from both paragraphs. The revised paragraphs would indicate that the requirements contained therein would apply to pork and pork products originating in any region of Mexico, except the State of Chiapas, that are transiting the United States. Pork and pork products from Chiapas would not be allowed to transit the United States due to the unacceptable risks associated with such shipments.

Finally, we would also make some editorial changes to § 94.15(b)(1), updating the mailing address that may be used to obtain a permit application and adding a Web address from which permit applications could be obtained electronically.

Executive Order 12866 and Regulatory Flexibility Act

This proposed rule has been reviewed under Executive Order 12866. The proposed rule has been determined to be not significant for the purposes of Executive Order 12866 and, therefore, has not been reviewed by the Office of Management and Budget.

In accordance with 5 U.S.C. 603, we have performed an initial regulatory flexibility analysis, which is summarized below, regarding the economic effects of this proposed rule on small entities. Copies of the full analysis are available by contacting the person listed under FOR FURTHER INFORMATION CONTACT or on the Regulations.gov Web site (see ADDRESSES above for instructions for accessing Regulations.gov).

Based on the information we have, there is no reason to conclude that adoption of this proposed rule would result in any significant economic effect on a substantial number of small entities. However, we do not currently have all of the data necessary for a comprehensive analysis of the effects of this proposed rule on small entities. Therefore, we are inviting comments on potential effects. In particular, we are interested in determining the number and kind of small entities that may incur benefits or costs from the implementation of this proposed rule.

We are proposing to amend the regulations governing the importation of animals and animal products to define a low-risk classical swine fever region in Mexico, from which we would allow the importation of fresh pork and pork products under certain conditions.

We do not have information on how the proposed rule may affect Mexico's capacity to produce pork and pork products considered free of CSF (as well as meet all other U.S. import requirements). Therefore, we are not able to estimate the extent to which the proposed rule may affect the volume of pork and pork products exported by Mexico to the United States.

As a next-best approach for considering possible impacts of the rule, we can look at the relative significance of current levels of pork and pork product imports from Mexico. The annual value of U.S. production of pork and pork products for the 3 years from 2010 through 2012 averaged nearly $15.86 billion. Over the same 3-year period, the value of U.S. exports of pork and pork products averaged about $4.35 billion, and the average annual value of imports was about $0.96 billion. Annual U.S. domestic supply of pork and pork products (production minus exports plus imports) for the 3 years had a total value of about $12.47 billion. The annual value of U.S. imports of pork and pork products from Mexico over the 3 years from 2010 through 2012 averaged about $31 million, or less than 0.3 percent of U.S. domestic supply. Thus, even in the event that U.S. imports of pork and pork products from Mexico were to triple because of the proposed changes, they would still comprise less than 1 percent of the U.S. market for these commodities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

National Environmental Policy Act

To provide the public with documentation of APHIS' review and analysis of any potential environmental impacts associated with the importation of pork and pork products from the APHIS-defined CSF low-risk region in Mexico, we have prepared an environmental assessment. The environmental assessment was prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

The environmental assessment may be viewed on the Regulations.gov Web site or in our reading room. (A link to Regulations.gov and information on the location and hours of the reading room are provided under the heading ADDRESSES at the beginning of this proposed rule.) In addition, copies may be obtained by calling or writing to the individual listed under FOR FURTHER INFORMATION CONTACT.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. APHIS-2013-0061. Please send a copy of your comments to: (1) APHIS, using one of the methods described under ADDRESSES at the beginning of this document, and (2) Clearance Officer, OCIO, USDA, room 404-W, 14th Street and Independence Avenue SW., Washington, DC 20250. A comment to OMB is best assured of having its full effect if OMB receives it within 30 days of publication of this proposed rule.

This proposed rule would define a low-risk CSF region in Mexico from which we would allow the importation of fresh pork and pork products under certain conditions. The requirements contained in this proposed rule would entail the following information collection activities:

• Maintenance of a visitors log to ensure personnel entering farms are those necessary for farm operations.

• Maintenance of all records of all animal movements into and out of the farm, including those of species other than swine, for 3 years.

• Certification from a full-time salaried veterinary officer of Mexico. Upon arrival of the pork or pork products in the United States, the certificate would have to be presented to an authorized inspector at the port of arrival. The certificate would have to identify the exporting region of the pork or pork products as being part of the APHIS-defined Mexican CSF region at the time the pork or pork products were in the region and would have to state that all applicable provisions of § 94.34 have been met.

• Use of the United States Veterinary Permit for Importation and Transportation of Controlled Materials and Organisms and Vectors (VS Form 16-3).

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 1 hour per response.

Respondents: Exporters and full-time, salaried veterinary officers employed by the Government of Mexico.

Estimated annual number of respondents: 6.

Estimated annual number of responses per respondent: 246.

Estimated annual number of responses: 1,483.

Estimated total annual burden on respondents: 1,489 hours. (Due to averaging, the total annual burden hours may not equal the product of the annual number of responses multiplied by the reporting burden per response.)

Copies of this information collection can be obtained from Mrs. Celeste Sickles, APHIS' Information Collection Coordinator, at (301) 851-2908.

E-Government Act Compliance

The Animal and Plant Health Inspection Service is committed to compliance with the E-Government Act to promote the use of the Internet and other information technologies, to provide increased opportunities for citizen access to Government information and services, and for other purposes. For information pertinent to E-Government Act compliance related to this proposed rule, please contact Mrs. Celeste Sickles, APHIS' Information Collection Coordinator, at (301) 851-2908.

List of Subjects in 9 CFR Part 94

Animal diseases, Imports, Livestock, Meat and meat products, Milk, Poultry and poultry products, Reporting and recordkeeping requirements.

Accordingly, we propose to amend 9 CFR part 94 as follows:

PART 94—RINDERPEST, FOOT-AND-MOUTH DISEASE, NEWCASTLE DISEASE, HIGHLY PATHOGENIC AVIAN INFLUENZA, AFRICAN SWINE FEVER, CLASSICAL SWINE FEVER, SWINE VESICULAR DISEASE, AND BOVINE SPONGIFORM ENCEPHALOPATHY: PROHIBITED AND RESTRICTED IMPORTATIONS

1. The authority citation for part 94 continues to read as follows:

Authority: 7 U.S.C. 450, 7701-7772, 7781-7786, and 8301-8317; 21 U.S.C. 136 and 136a; 31 U.S.C. 9701; 7 CFR 2.22, 2.80, and 371.4.

2. Section 94.0 is amended by adding a definition of APHIS-defined Mexican CSF region in alphabetical order to read as follows:

§ 94.0 Definitions.

* * * * *

APHIS-defined Mexican CSF region. A single region of Mexico recognized by APHIS as low risk for classical swine fever.

(1) A list of areas included in the region is maintained on the APHIS Web site at http://www.aphis.usda.gov/import_export/animals/animal_disease_status.shtml. Copies of the list will also be available via postal mail, fax, or email upon request to Regional Evaluation Services, National Import Export Services, Veterinary Services, Animal and Plant Health Inspection Service, 4700 River Road Unit 38, Riverdale, Maryland 20737.

(2) APHIS will add an area to the region after it conducts an evaluation of the area to be added in accordance with § 92.2 of this subchapter and finds that the risk profile for the area is equivalent with respect to classical swine fever to the risk profile for the region it is joining.

* * * * *

3. Section 94.9 is amended as follows:

a. By revising paragraph (b); and

b. In paragraph (c) introductory text, by adding the words “and § 94.34 for the APHIS-defined Mexican CSF region” after the words “APHIS-defined European CSF region”.

The revision reads as follows:

§ 94.9 Pork and pork products from regions where classical swine fever exists.

* * * * *

(b) The APHIS-defined European and Mexican CSF regions are regions of low risk for CSF.

* * * * *

4. Section 94.10 is amended by revising paragraph (b) to read as follows:

§ 94.10 Swine from regions where classical swine fever exists.

* * * * *

(b) The APHIS-defined European and Mexican CSF regions are regions of low-risk for CSF.

* * * * *

5. Section 94.15 is amended by revising paragraph (b) introductory text and paragraphs (b)(1) and (2) to read as follows:

§ 94.15 Animal products and materials; movement and handling.

* * * * *

(b) Pork and pork products from all regions of Mexico, except the State of Chiapas, that are not eligible for entry into the United States in accordance with this part may transit the United States via land border ports for immediate export if the following conditions are met:

(1) The person desiring to move the pork and pork products through the United States obtains a United States Veterinary Permit for Importation and Transportation of Controlled Materials and Organisms and Vectors (VS Form 16-3). (An application for the permit may be obtained from the Animal and Plant Health Inspection Service, Veterinary Services, National Import Export Services, 4700 River Road Unit 38, Riverdale, Maryland 20737-1231 or on our Web site at http://www.aphis.usda.gov/import_export/animals/animal_import/animal_imports.shtml.)

(2) The pork or pork products are packaged at a Tipo Inspección Federal plant in any region of Mexico, except the State of Chiapas, in leakproof containers and sealed with serially numbered seals of the Government of Mexico, and the containers remain sealed during the entire time they are in transit across Mexico and the United States.

* * * * *

6. Section 94.34 is added to read as follows:

§ 94.34 Restrictions on the importation of fresh pork and pork products from the APHIS-defined Mexican CSF region.

Fresh pork or pork products and ship stores, airplane meals, and baggage containing pork or pork products, other than those articles regulated under part 95 or part 96 of this subchapter, may not be imported into the United States from the APHIS-defined Mexican CSF region unless the requirements in this section, in addition to other applicable requirements of part 93 of this subchapter and part 327 of this title, are met.

(a) The pork or pork products must be derived from swine raised on farms where CSF antigen exposure has not been detected. Fresh pork or pork products destined for export to the United States must be derived from swine herds that are tested annually for CSF antibodies with negative results, using a serological testing protocol that allows differentiation between CSF antibodies and cross-reactions with antibodies to other pestiviruses. Sample size must be adequate to detect 5 percent prevalence at a 95 percent confidence level, and samples from the herd may be collected at the slaughterhouse or the farm. Any sick pigs showing clinical signs consistent with CSF must be sampled and tested immediately on the farm for CSF antigen. In cases of CSF suspicion, any freshly dead pigs or pigs needing to be euthanized must be necropsied on the farm, and complete diagnostics for CSF must be performed at an official diagnostic laboratory in Mexico.

(b) The pork or pork products must be derived from swine raised on farms operating under sanitary and biosecurity measures determined by the Administrator to be adequate to prevent exposure of the swine population to CSF virus. All of the following conditions must be met:

(1) The swine from which the pork or pork products are derived must be contained in a manner determined by the Administrator to be adequate to prevent exposure to other swine, wildlife, or swine products. Such containment measures may include, but are not limited to, perimeter fencing and gated driveways.

(2) All vehicles entering the farm or transporting swine must be cleaned and disinfected in a manner determined by the Administrator to be adequate to prevent the spread of CSF by means of contamination of the vehicles with CSF virus. All visible organic matter, manure, dirt, debris, bedding, soil, and feed must be removed, and all surfaces dried. Disinfection must be conducted, in accordance with the manufacturer's instructions, utilizing an agent that has been shown to deactivate the CSF virus.

(3) Personnel entering the farm must be limited to those necessary for farm operations, and farm personnel must take measures to ensure that personnel entering the farm and visitors avoid exposing swine on the farm to clothing, boots, and other similar articles contaminated with the CSF virus. A written visitors log must be maintained.

(4) The farm must prohibit farm personnel from owning or working with other swine and from working in swine slaughter facilities.

(5) Records of all animal movements into and out of the farm, including those of species other than swine, must be maintained on the farm for a period of 3 years. The records must include the identification of the animals moved and the origin and destination for each movement.

(6) The feeding of swill to swine on the farm is prohibited.

(7) A pest control program determined by the Administrator to be adequate to limit exposure of swine to rodent contamination is maintained on the farm.

(8) Replacement stock must:

(i) Test negative for CSF prior to being admitted to the farm; and

(ii) Be obtained only from herds of equivalent sanitary status to the herds from which the pork or pork products are derived.

(9) Semen donor boars must test negative for CSF prior to being admitted to a semen collection center in Mexico that supplies semen to the farm.

(c) The pork or pork products were derived from swine raised on farms that have not been epidemiologically linked to CSF outbreaks and have not been located in a restricted zone for CSF in the previous 12 months.

(d) The pork or pork products derived from swine originating in the CSF low-risk region were raised on farms that were inspected within the previous year by Mexico's National Service of Health, Safety and Quality Agrofood (SENASICA) and verified to be in compliance with the above conditions described in paragraphs (a), (b), and (c) of this section.

(e) The pork or pork products were derived from swine that were born, raised, and have lived only in the United States or in a region classified as CSF-free or low-risk for CSF, and were slaughtered in such a region at a federally inspected slaughter plant that is under the direct supervision of a full-time salaried veterinarian of the national government of that region and that is eligible to have its products imported into the United States under the Federal Meat Inspection Act (21 U.S.C. 601 et seq.) and the regulations in § 327.2 of this title. Any slaughtering establishment exporting pork or pork products under the provisions of this section must allow APHIS to periodically evaluate and inspect its facilities, records, and operations.

(f) The pork or pork products were derived from swine that have not been commingled with swine originating from herds in the CSF low-risk region that do not meet the sanitary standards contained in this section.

(g) The pork or pork products have not been in contact with pork or pork products that have been in a region, other than the United States, that is not classified as CSF-free or low-risk for CSF.

(h) The pork or pork products have not been in contact with pork or pork products derived from swine originating from herds in the CSF low-risk region that were not reared under the sanitary standards contained in this section.

(i) The pork or pork products have not transited through a region, other than the United States, that is not classified as CSF-free or low-risk for CSF unless moved directly through the region to their destination in a sealed means of conveyance with the seal intact upon arrival at the point of destination.

(j) If processed, the pork or pork products were processed in a region classified as CSF-free or low-risk for CSF in a federally inspected processing plant that is under the direct supervision of a full-time salaried veterinary official of the national government of that region. Any processing establishment that processes pork or pork products for export to the United States under the provisions of this section must allow APHIS to periodically evaluate and inspect its facilities, records, and operations.

(k) The pork or pork products must be accompanied by a certification issued by a full-time salaried veterinary officer of the Government of Mexico. Upon arrival of the pork or pork products in the United States, the certification must be presented to an authorized inspector at the port of arrival. The certification must identify the exporting region of the pork or pork products as being part of the APHIS-defined Mexican CSF region at the time the pork or pork products were in the region and must state that the applicable provisions of this section have been met.

Done in Washington, DC, this 23rd day of July 2014.
Kevin Shea,
Administrator, Animal and Plant Health Inspection Service.

[FR Doc. 2014-17886 Filed 7-28-14; 8:45 am]

BILLING CODE 3410-34-P